DEPARTMENT OF COMMERCE

International Trade Administration

[A-428-840]

Lightweight Thermal Paper From Germany: Final Results of the First Full Sunset Review of the Antidumping Duty Order

AGENCY: Enforcement and Compliance, International Trade Administration, Department of Commerce.

SUMMARY: On February 10, 2014, the Department of Commerce (the Department) issued the preliminary results of the first full five-year (sunset) review of the antidumping duty (AD) order on lightweight thermal paper from Germany.¹ We received comments from interested parties on our Preliminary Results. As a result of our analysis, the Department finds that revocation of the AD order would be likely to lead to continuation or recurrence of dumping at the levels indicated in the “Final Results of Sunset Review” section of this notice.

¹ See Lightweight Thermal Paper From Germany: Preliminary Results of the First Full Sunset Review of the Antidumping Duty Order, 79 FR 7644 (February 10, 2014) (Preliminary Results), and accompanying Issues and Decision Memorandum (Preliminary Decision Memorandum).

DATES: Effective Date: June 4, 2014.

FOR FURTHER INFORMATION CONTACT: David Goldberger, AD/CVD Operations, Office II, Enforcement and Compliance, U.S. Department of Commerce, 14th Street and Constitution Avenue NW., Washington, DC 20230; telephone: (202) 482-4136.

SUPPLEMENTARY INFORMATION:

Background

On February 10, 2014, the Department published the Preliminary Results. We preliminarily found that dumping was likely to continue or recur if the AD order were revoked, and determined to report to the International Trade Commission (ITC) the rates calculated in the LTFV Final ² as the margins of dumping likely to prevail.

² See Lightweight Thermal Paper from Germany: Notice of Final Determination of Sales at Less Than Fair Value, 73 FR 57326, 57328 (October 2, 2008) (LTFV Final).

We invited interested parties to comment on the Preliminary Results. We received case briefs from Appvion, Inc. (Appvion ³), a domestic manufacturer of lightweight thermal paper, and Papierfabrik August Koehler SE (Koehler), a German producer/exporter of lightweight thermal paper, on April 1, 2014, and rebuttal briefs from these parties on April 11, 2014.

³ Appvion (formerly Appleton Papers) was the petitioner in the original investigation of lightweight thermal paper from Germany. See LTFV Final.

Scope of the Order

The merchandise covered by the order is lightweight thermal paper. The merchandise subject to the order is currently classified under the following Harmonized Tariff Schedule of the United States (HTSUS) subheadings: 3703.10.60, 4811.59.20, 4811.90.8000, 4811.90.8030, 4811.90.8040, 4811.90.8050, 4811.90.9000, 4811.90.9030, 4811.90.9035, 4811.90.9050, 4811.90.9080, 4811.90.9090, 4820.10.20, and 4823.40.00. While the HTSUS subheadings are provided for convenience and customs purposes, the written description of the scope of the order is dispositive.

For a full description of the scope, see “Final Results Issues and Decision Memorandum for the Full Sunset Review of the Antidumping Duty (AD) Order on Lightweight Thermal Paper from Germany,” dated concurrently with this notice (Decision Memorandum).

Analysis of Comments Received

All issues raised in this review are addressed in the Decision Memorandum, dated concurrently with this final notice, which is hereby adopted by this notice. The issues discussed in the accompanying Decision Memorandum include the likelihood of the continuation of dumping and the magnitude of the margins likely to prevail. The Decision Memorandum is a public document and is on file electronically via Enforcement and Compliance's Antidumping and Countervailing Duty Centralized Electronic Service System (IA ACCESS). IA ACCESS is available to registered users at http://iaaccess.trade.gov. The Decision Memorandum is available to all parties in the Central Records Unit, room 7046 of the main Department of Commerce building. In addition, a complete version of the Decision Memorandum can be accessed directly at http://enforcement.trade.gov/frn/. The signed and electronic versions of the Decision Memorandum are identical in content.

Final Results of Sunset Review

We determine that revocation of the AD order on lightweight thermal paper from Germany would be likely to lead to continuation or recurrence of dumping at the following weighted-average margins:

Manufacturer/exporter | Margin (percent)
Koehler | 6.50
All Others | 6.50

Notification to Interested Parties

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the final results of this full sunset review in accordance with sections 751(c)(5)(A), 752(c), and 777(i) of the Tariff Act of 1930, as amended, and 19 CFR 351.218(f)(3).

Dated: May 28, 2014.
Paul Piquado,
Assistant Secretary for Enforcement and Compliance.

[FR Doc. 2014-12991 Filed 6-3-14; 8:45 am]

BILLING CODE 3510-DS-P